FEDERAL COMMUNICATIONS COMMISSION

Sunshine Act Meeting; Open Commission Meeting, Thursday, April 19, 2001

April 12, 2001.

The Federal Communications Commission will hold an Open Meeting on the subjects listed below on Thursday, April 19, 2001, which is scheduled to commence at 9:30 a.m. in Room TW-C305, at 445 12th Street, S.W., Washington, D.C.

Item No., Bureau, and Subject

1—Common Carrier—Title: Developing a Unified Intercarrier Compensation Regime. Summary: The Commission will consider a Notice of Proposed Rulemaking to explore ways of reforming existing intercarrier rules.

2—Mass Media—Title: Amendment of Section 73.658(g) of the Commission's Rules—The Dual Network Rule (MM Docket No. 00-108). Summary: The Commission will consider a Report and Order resolving the issues raised in the Notice of Proposed Rule Making.

3—Mass Media—Title: Status of the Digital Television Transition. Summary: The Commission will hear a presentation on the status of the transition from analog to digital television (DTV) broadcasting and the various actions and proceedings associated with the transition.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netcom. Their Internet address is http://www.itsdocs.com/.

This meeting can be viewed over George Mason University's Capitol Connection. The Capitol Connection also will carry the meeting live via the Internet. For information on these services call (703) 993-3100. The audio portion of the meeting will be broadcast live on the Internet via the FCC's Internet audio broadcast page at <http://www.ferc.gov/realaudio/>. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
Magalie Roman Salas,
Secretary.

[FR Doc. 01-9630 Filed 4-13-01; 2:17 pm]

BILLING CODE 6712-01-M